DEPARTMENT OF ENERGY

Federal Energy Regulatory Commission

Combined Notice of Filings #1

Take notice that the Commission received the following electric corporate filings:

Docket Numbers: EC11-107-000.

Applicants: Portsmouth Genco, LLC.

Description: Application for Authorization for Disposition of Jurisdictional Facilities and Request for Expedited Action of Portsmouth Genco, LLC.

Filed Date: 08/19/2011.

Accession Number: 20110819-5131.

Comment Date: 5 p.m. Eastern Time on Friday, September 09, 2011.

Take notice that the Commission received the following electric rate filings:

Docket Numbers: ER11-4336-000; ER11-4336-001.

Applicants: ISO New England Inc.

Description: ISO New England Inc. submits tariff filing per 35.13(a)(2)(iii): Order 745 Compliance Filing—Transition Rules—Part I of II to be effective 6/1/2012; Part II of II to be effective 6/1/2015.

Filed Date: 08/19/2011.

Accession Number: 20110819-5044; 20110819-5046.

Comment Date: 5 p.m. Eastern Time on Friday, September 09, 2011.

Docket Numbers: ER11-4337-000.

Applicants: Midwest Independent Transmission System Operator, Inc.

Description: Midwest Independent Transmission System Operator, Inc. submits tariff filing per 35: 08-19-11 Order 745 Compliance to be effective 4/1/20110.

Filed Date: 08/19/2011.

Accession Number: 20110819-5106.

Comment Date: 5 p.m. Eastern Time on Friday, September 09, 2011.

Docket Numbers: ER11-4338-000.

Applicants: New York Independent System Operator, Inc.

Description: New York Independent System Operator, Inc. submits tariff filing per 35: Demand Response Compensation Order 745 to be effective 12/31/9998.

Filed Date: 08/19/2011.

Accession Number: 20110819-5114.

Comment Date: 5 p.m. Eastern Time on Friday, September 09, 2011.

Docket Numbers: ER11-4339-000.

Applicants: ENBALA Power Networks (USA), Inc.

Description: ENBALA Power Networks (USA), Inc. submits tariff filing per 35.12: ENBALA Power Networks (USA) Inc. Market Based Rate to be effective 11/1/2011.

Filed Date: 08/19/2011.

Accession Number: 20110819-5117.

Comment Date: 5 p.m. Eastern Time on Friday, September 09, 2011.

Docket Numbers: ER11-4340-000.

Applicants: California Independent System Operator Corporation.

Description: California Independent System Operator Corporation submits tariff filing per 35.13(a)(2)(iii: 2011-08-19 CAISO TMCC Amendment Filing to be effective 10/19/2011.

Filed Date: 08/19/2011.

Accession Number: 20110819-5120.

Comment Date: 5 p.m. Eastern Time on Friday, September 09, 2011.

Docket Numbers: ER11-4341-000.

Applicants: PJM Interconnection, L.L.C.

Description: PJM Interconnection, L.L.C. submits tariff filing per 35.13(a)(2)(iii: PJM Queue No. U3-029/U3-030; Original Service Agreement No. 2988 to be effective 7/20/2011.

Filed Date: 08/19/2011.

Accession Number: 20110819-5121.

Comment Date: 5 p.m. Eastern Time on Friday, September 09, 2011.

Take notice that the Commission received the following PURPA 210(m)(3) filings:

Docket Numbers: QM11-4-000.

Applicants: Southern Indiana Gas & Electric Company.

Description: Application to Terminate QF Mandatory Purchase Obligation of Southern Indiana Gas & Electric Company.

Filed Date: 08/19/2011.

Accession Number: 20110819-5133.

Comment Date: 5 p.m. Eastern Time on Friday, September 16, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2011.
Nathaniel J. Davis, Sr.,
Deputy Secretary.

[FR Doc. 2011-22001 Filed 8-26-11; 8:45 am]

BILLING CODE 6717-01-P